DEPARTMENT OF TRANSPORTATION

Federal Aviation Administration

14 CFR Part 39

[Docket No. FAA-2020-0705; Product Identifier 2017-SW-105-AD; Amendment 39-21187; AD 2020-16-03]

RIN 2120-AA64

Airworthiness Directives; PZL Swidnik S.A. Helicopters

AGENCY: Federal Aviation Administration (FAA), Department of Transportation (DOT).

ACTION: Final rule; request for comments.

SUMMARY: The FAA is adopting a new airworthiness directive (AD) for PZL Swidnik S.A. (PZL) Model PZL W-3A helicopters. This AD requires establishing a life limit for certain horizontal stabilizers and removing from service any affected horizontal stabilizer in accordance with that life limit. This AD was prompted by the discovery of an error in the Airworthiness Limitations for PZL Model PZL W-3A helicopters. The actions of this AD are intended to address an unsafe condition on these products.

DATES: This AD becomes effective August 10, 2020.

The FAA must receive comments on this AD by September 8, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0705; or in person at Docket Operations between 9 a.m. and 5 p.m., Monday through Friday, except Federal holidays. The AD docket contains this AD, the European Aviation Safety Agency (now European Union Aviation Safety Agency) (EASA) AD, any comments received, and other information. The street address for Docket Operations is listed above. Comments will be available in the AD docket shortly after receipt.

For service information identified in this final rule, contact WSK PZL-Świdnik S.A., Al. Lotników Polskich 1, 21-045 Świdnik, Poland; telephone +48 81722 6112; or at www.pzl.swidnik.pl. You may view the referenced service information at the FAA, Office of the Regional Counsel, Southwest Region, 10101 Hillwood Pkwy, Room 6N-321, Fort Worth, TX 76177.

FOR FURTHER INFORMATION CONTACT: Kristin Bradley, Aviation Safety Engineer, Safety Management Section, Rotorcraft Standards Branch, FAA, 10101 Hillwood Pkwy., Fort Worth, TX 76177; telephone 817-222-5110; email kristin.bradley@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The most helpful comments reference a specific portion of the AD, explain the reason for any recommended change, and include supporting data. To ensure the docket does not contain duplicate comments, commenters should send only one copy of written comments, or if comments are filed electronically, commenters should submit them only one time.

Except for Confidential Business Information (CBI) as described in the following paragraph, and other information as described in 14 CFR 11.35, the FAA will file in the docket all comments received, as well as a report summarizing each substantive public contact with FAA personnel concerning this rulemaking during the comment period. The FAA will consider all comments received and may conduct additional rulemaking based on those comments.

Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kristin Bradley, Aviation Safety Engineer, Safety Management Section, Rotorcraft Standards Branch, FAA, 10101 Hillwood Pkwy., Fort Worth, TX 76177; telephone 817-222-5110; email kristin.bradley@faa.gov. Any commentary that the FAA receives which is not specifically designated as CBI will be placed in the public docket for this rulemaking.

Discussion

EASA, which is the Technical Agent for the Member States of the European Union, has issued AD No. 2017-0057, dated April 6, 2017, to correct an unsafe condition for PZL Model PZL W-3A helicopters. EASA advises of previous AD action requiring maintenance tasks and limitations in Revision 11 of Chapter 4 Airworthiness Limitations of PZL W-3A Instructions for Continued Airworthiness of Maintenance Manual AE 30.04.20.1 MM (English) and AE 30.04.20.1 IOT (Polish). Since then, EASA advises of revised maintenance tasks and more restrictive limitations in Revision 13 of AE 30.04.20.1 MM (English) and Revision 12 of AE 30.04.20.1 IOT (Polish). EASA states that these maintenance tasks and limitations are required for continued airworthiness and failure to comply with them could result in an unsafe condition.

Additional review after the EASA AD was issued determined that previous revisions of AE 30.04.20.1 MM (English) included an error for horizontal stabilizer part number (P/N) 30.13.600.00.04. Introduced in Revision 9, dated January 2012, AE 30.04.20.1 MM (English) stated the life limit for horizontal stabilizer P/N 30.13.600.00.04 up to serial number 06.001. The life limit should have been for serial number 06.001 and subsequent instead. This error was corrected in Revision 13 of AE 30.04.20.1 MM (English).

FAA's Determination

These helicopters have been approved by EASA and are approved for operation in the United States. Pursuant to the FAA's bilateral agreement with the European Union, EASA has notified the FAA of the unsafe condition described in its AD. The FAA is issuing this AD after evaluating all information provided by EASA and determining that the unsafe condition exists and is likely to exist or develop on other helicopters of the same type design.

Related Service Information

PZL has issued Chapter 4 Airworthiness Limitations of PZL W-3A Instructions for Continued Airworthiness of Maintenance Manual AE 30.04.20.1 MM, Revision 13, dated January 2017. This revision of the service information includes establishing a life limit for horizontal stabilizer P/N 30.13.600.00.04 serial number 06.001 and subsequent.

AD Requirements

This AD establishes a life limit for horizontal stabilizer P/N 30.13.600.00.04 serial number 06.001 and subsequent by requiring, before further flight, removing from service any horizontal stabilizer that has reached 15 or more years since the date of manufacture. Thereafter, this AD also requires removing from service any horizontal stabilizer before reaching 15 years since the date of manufacture.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

There are no costs of compliance with this AD because there are no helicopters with this type certificate on the U.S. Registry.

FAA's Justification and Determination of the Effective Date

Section 553(b)(3)(B) of the Administrative Procedure Act (5 U.S.C.) authorizes agencies to dispense with notice and comment procedures for rules when the agency, for “good cause,” finds that those procedures are “impracticable, unnecessary, or contrary to the public interest.” Under this section, an agency, upon finding good cause, may issue a final rule without seeking comment prior to the rulemaking.

There are no helicopters with this type certificate on the U.S. Registry. Therefore, notice and opportunity for prior public comment are unnecessary pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator.

Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on the product identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-16-03 PZL Swidnik S.A.: Amendment 39-21187; Docket No. FAA-2020-0705; Product Identifier 2017-SW-105-AD.

(a) Applicability

This AD applies to PZL Swidnik S.A. Model PZL W-3A helicopters, certificated in any category, with a horizontal stabilizer part number 30.13.600.00.04 with a serial number 06.001 and subsequent installed.

(b) Unsafe Condition

This AD defines the unsafe condition as a horizontal stabilizer remaining in service beyond its life limit. This condition could result in failure of the horizontal stabilizer and subsequent loss of control of the helicopter.

(c) Effective Date

This AD becomes effective August 10, 2020.

(d) Compliance

You are responsible for performing each action required by this AD within the specified compliance time unless it has already been accomplished prior to that time.

(e) Required Actions

Before further flight, remove from service any horizontal stabilizer that has reached 15 or more years since date of manufacture. Thereafter, remove from service any horizontal stabilizer before reaching 15 years since date of manufacture.

(f) Alternative Methods of Compliance (AMOCs)

(1) The Manager, Rotorcraft Standards Branch, FAA, may approve AMOCs for this AD. Send your proposal to: Kristin Bradley, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(g) Additional Information

(1) Chapter 4 Airworthiness Limitations of PZL W-3A Instructions for Continued Airworthiness of Maintenance Manual AE 30.04.20.1 MM, Revision 13, dated January 2017, which is not incorporated by reference, contains additional information about the subject of this AD. For service information identified in this AD, contact WSK PZL-Świdnik S.A., Al. Lotników Polskich 1, 21-045 Świdnik, Poland; telephone +48 81722 6112; or at www.pzl.swidnik.pl. You may view a copy of the service information at the FAA, Office of the Regional Counsel, Southwest Region, 10101 Hillwood Pkwy, Room 6N-321, Fort Worth, TX 76177.

(2) The subject of this AD is addressed in European Aviation Safety Agency (now European Union Aviation Safety Agency) (EASA) AD No. 2017-0057, dated April 6, 2017. You may view the EASA AD on the internet at https://www.regulations.gov by searching for and locating it in Docket No. FAA-2020-0705.

(h) Subject

Joint Aircraft Service Component (JASC) Code: 5510, Horizontal Stabilizer Structure.

Issued on July 20, 2020.
Lance T. Gant,
Director, Compliance & Airworthiness Division, Aircraft Certification Service.

[FR Doc. 2020-16031 Filed 7-23-20; 8:45 am]

BILLING CODE 4910-13-P